DEPARTMENT OF ENERGY

Federal Energy Regulatory Commission

[Docket No. RP03-569-000]

CenterPoint Energy—Mississippi River Transmission Corporation; Notice of Tariff Filing

August 20 2003.

Take notice that on August 13, 2003, CenterPoint Energy—Mississippi River Transmission Corporation (MRT) tendered for filing as part of its FERC Gas Tariff, Third Revised Volume No. 1, the following tariff sheets to be effective October 1, 2003:

Forty-Ninth Revised Sheet No. 5.

Forty-Ninth Revised Sheet No. 6.

Forty-Sixth Revised Sheet No. 7.

Nineteenth Revised Sheet No. 8.

MRT states that the purpose of this filing is to comply with the Commission's order issued January 16, 2002 in Docket No. RP01-292. MRT states that it is filing to implement the Period Two Settlement Rates to be effective October 1, 2003 through September 30, 2004.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 25, 2003.

Magalie R. Salas,
Secretary.

[FR Doc. 03-21899 Filed 8-26-03; 8:45 am]

BILLING CODE 6717-01-P